DEPARTMENT OF HEALTH AND HUMAN SERVICES

National Institutes of Health

Center for Scientific Review; Amended Notice of Meeting

Notice is hereby given of a change in the meeting of the Intercellular Interactions Study Section, June 5, 2008, 8 a.m. to June 6, 2008, 5:30 p.m., George Washington University Inn, 824 New Hampshire Avenue, NW., Washington, DC, 20037 which was published in the Federal Register on April 4, 2008, 18539-18542.

The meeting will be held one day only June 5, 2008. The meeting time and location remain the same. The meeting is closed to the public.

Dated: April 9, 2008.
Jennifer Spaeth,
Director, Office of Federal Advisory Committee Policy.

[FR Doc. E8-8041 Filed 4-15-08; 8:45 am]

BILLING CODE 4140-01-M